DEPARTMENT OF THE INTERIOR

Bureau of Ocean Energy Management

Outer Continental Shelf (OCS), Central and Western Gulf of Mexico, Oil and Gas Lease Sales for Years 2012-2017

AGENCY: Bureau of Ocean Energy Management (BOEM), Interior.

ACTION: Call for Information and Nominations; Correction.

SUMMARY: On March 15, 2011, BOEM (formerly the Bureau of Ocean Energy Management, Regulation and Enforcement) published a notice in the Federal Register (76 FR 14040), entitled “Call for Information and Nominations.” This document describes a correction to the sale numbers that were identified in the Call. As previously published, the sale numbers contained an error that will prove to be misleading.

Section 2—Purpose of Call, Should Be Changed to the Following Sale Numbers

Lease sale, planning area | Sale year
Sale 229, Western GOM | 2012
Sale 227, Central GOM | 2013
Sale 233, Western GOM | 2013
Sale 231, Central GOM | 2014
Sale 238, Western GOM | 2014
Sale 235, Central GOM | 2015
Sale 246, Western GOM | 2015
Sale 241, Central GOM | 2016
Sale 248, Western GOM | 2016
Sale 247, Central GOM | 2017

DATES: This correction is effective immediately.

FOR FURTHER INFORMATION CONTACT: Mr. Carrol Williams, BOEM, Gulf of Mexico OCS Region, 1201 Elmwood Park Boulevard, New Orleans, Louisiana 70123-2394, telephone (504) 736-2803.

Dated: October 25, 2011.
Tommy P. Beaudreau,
Director, Bureau of Ocean Energy Management.

[FR Doc. 2011-29487 Filed 11-14-11; 8:45 am]

BILLING CODE 4310-MR-P